DEPARTMENT OF DEFENSE

GENERAL SERVICES ADMINISTRATION

NATIONAL AERONAUTICS AND SPACE ADMINISTRATION

48 CFR Parts 9, 11, 25, 27, 34, 38, 39, 43, 46, 48, 50, and 52

[FAC 2005-07; Item XI]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial corrections and updates the Federal Acquisition Regulation’s authority citation.

DATES: Effective Date: January 3, 2006.

FOR FURTHER INFORMATION CONTACT: The FAR Secretariat, Room 4035, GS Building, Washington, DC, 20405, (202) 501-4755, for information pertaining to status or publication schedules. Please cite FAC 2005-07, Technical Amendments.

List of Subjects in 48 CFR Parts 9, 11, 25, 27, 34, 38, 39, 43, 46, 48, 50, and 52

Government procurement.

Dated: December 22, 2005.
Gerald Zaffos,
Director, Contract Policy Division.

Therefore, DoD, GSA, and NASA amend 48 CFR parts 9, 11, 25, 27, 34, 38, 39, 43, 46, 48, 50, and 52 as set forth below:

1. The authority citation for 48 CFR parts 9, 11, 25, and 52 continues to read as follows:

Authority: 40 U.S.C. 121(c); 10 U.S.C. chapter 137; and 42 U.S.C. 2473(c).

2. The authority citation for 48 CFR parts 27, 34, 38, 39, 43, 46, 48, and 50 is revised to read as follows:

Authority: 40 U.S.C. 121(c); 10 U.S.C. chapter 137; and 42 U.S.C. 2473(c).

PART 9—CONTRACTOR QUALIFICATIONS

3. Amend section 9.203 by revising paragraph (b)(2) to read as follows:

9.203 QPL’s, QML’s, and QBL’s.

* * * * *

(b) * * *

(2) Department of Defense Acquisition Streamlining and Standardization Information System (ASSIST) at (http://assist.daps.dla.mil).

* * * * *

PART 11—DESCRIBING AGENCY NEEDS

4. Amend section 11.102 by revising the third and fourth sentences to read as follows:

11.102 Standardization program.

* * * DoD 4120.24-M may be obtained from DoD (see 11.201(d)(2) or 11.201(d)(3)). FIPS PUBS may be obtained from the Government Printing Office (GPO), or the Department of Commerce’s National Technical Information Service (NTIS) (see address in 11.201(d)(4)).

5. Amend section 11.201 by—

a. Removing from the first sentence of the introductory text of paragraph (a) “DoD Index of Specifications and Standards (DoDISS)” and adding “DoD Acquisition Streamlining and Standardization Information System (ASSIST)” in its place;

b. Removing from the first sentence of paragraph (b) “DoDISS” and adding “ASSIST” in its place; and

c. Revising paragraph (d)(2); redesignating paragraph (d)(3) as paragraph (d)(4), and adding a new paragraph (d)(3) to read as follows:

11.201 Identification and availability of specifications.

* * * * *

(d)(1) * * *

(2) Most unclassified Defense specifications and standards may be downloaded from the following ASSIST websites:

(i) ASSIST (http://assist.daps.dla.mil).

(ii) Quick Search (http://assist.daps.dla.mil/quicksearch).

(iii) ASSISTdocs.com (http://assistdocs.com).

(3) Documents not available from ASSIST may be ordered from the Department of Defense Single Stock Point (DoDSSP) by—

(i) Using the ASSIST Shopping Wizard (http://assist.daps.dla.mil/wizard);

(ii) Phoning the DoDSSP Customer Service Desk, (215) 697-2179, Mon-Fri, 0730 to 1600 EST; or

(iii) Ordering from DoDSSP, Building 4, Section D, 700 Robbins Avenue, Philadelphia, PA 19111-5094, Telephone (215) 697-2667/2179, Facsimile (215) 697-1462.

* * * * *

6. Amend section 11.204 by revising paragraph (b) to read as follows:

11.204 Solicitation provisions and contract clauses.

* * * * *

(b) The contracting officer shall insert the provision at 52.211-2, Availability of Specifications, Standards, and Data Item Descriptions Listed in the Acquisition Streamlining and Standardization Information System (ASSIST), in solicitations that cite specifications listed in the ASSIST that are not furnished with the solicitation.

* * * * *

PART 25—FOREIGN ACQUISITION

25.1101 [Amended]

7. Amend section 25.1101 in the second sentence of paragraph (e)(2) by removing “paragraphs (b)(1) and (i)(2)” and adding “paragraphs (c)(1) and (j)(2)” in its place.

PART 52—SOLICITATION PROVISIONS AND CONTRACT CLAUSES

8. Revise section 52.211-2 to read as follows:

52.211-2 Availability of Specifications, Standards, and Data Item Descriptions Listed in the Acquisition Streamlining and Standardization Information System (ASSIST).

As prescribed in 11.204(b), insert the following provision:

AVAILABILITY OF SPECIFICATIONS, STANDARDS, AND DATA ITEM DESCRIPTIONS LISTED IN THE ACQUISITION STREAMLINING AND STANDARDIZATION INFORMATION SYSTEM (ASSIST) (JAN 2006)

(a) Most unclassified Defense specifications and standards may be downloaded from the following ASSIST websites:

(1) ASSIST (http://assist.daps.dla.mil);

(2) Quick Search (http://assist.daps.dla.mil/quicksearch);

(3) ASSISTdocs.com (http://assistdocs.com).

(b) Documents not available from ASSIST may be ordered from the Department of Defense Single Stock Point (DoDSSP) by—

(1) Using the ASSIST Shopping Wizard (http://assist.daps.dla.mil/wizard);

(2) Phoning the DoDSSP Customer Service Desk (215) 697-2179, Mon-Fri, 0730 to 1600 EST; or

(3) Ordering from DoDSSP, Building 4, Section D, 700 Robbins Avenue, Philadelphia, PA 19111-5094, Telephone (215) 697-2667/2179, Facsimile (215) 697-1462.

(End of provision)

9. Amend section 52.212-1 by revising the date and paragraph (i)(2) of the provision; redesignating paragraph (i)(3) as paragraph (i)(4); and adding a new paragraph (i)(3) to read as follows:

52.212-1 Instructions to Offerors—Commercial Items.

* * * * *

INSTRUCTIONS TO OFFERORS—COMMERCIAL ITEMS (JAN 2006)

* * * * *

(i) * * *

(2) Most unclassified Defense specifications and standards may be downloaded from the following ASSIST websites:

(i) ASSIST (http://assist.daps.dla.mil).

(ii) Quick Search (http://assist.daps.dla.mil/quicksearch).

(iii) ASSISTdocs.com (http://assistdocs.com).

(3) Documents not available from ASSIST may be ordered from the Department of Defense Single Stock Point (DoDSSP) by—

(i) Using the ASSIST Shopping Wizard (http://assist.daps.dla.mil/wizard);

(ii) Phoning the DoDSSP Customer Service Desk (215) 697-2179, Mon-Fri, 0730 to 1600 EST; or

(iii) Ordering from DoDSSP, Building 4, Section D, 700 Robbins Avenue, Philadelphia, PA 19111-5094, Telephone (215) 697-2667/2179, Facsimile (215) 697-1462.

* * * * *

[FR Doc. 05-24557 Filed 12-30-05; 8:45 am]

BILLING CODE 6820-EP-S